NATIONAL SCIENCE FOUNDATION

Advisory Committee for GPRA Performance Assessment (#13853); Notice of Meeting

In accordance with the Federal Advisory Committee Act (Pub. L. 92-463, as amended) the National Science Foundation announces the following meeting.

Name: Advisory Committee for GPRA Performance Assessment (AC/GPA) (#13853).

Date and Time: June 24, 2003, 8:30 a.m.-10 a.m.; June 25, 2003, 8:30 a.m.-12 (Noon); June 26, 2003, 8:30-4 p.m.

Place: National Science Foundation, 4201 Wilson Boulevard, Arlington, VA 22230, Room 1235.

For Further Information Contact: Mr. Thomas N. Cooley, Chief Financial Officer, National Science Foundation, Room 405, Arlington, Virginia 22230 (Tel. 703/292-8200).

Type of Meeting: Open (see agenda below).

National Science Foundation, Suite 405, 4201 Wilson Boulevard, Arlington, VA 22230; Telephone: (703) 292-4609. If you are attending the meeting and need access to the NSF building, please contact Carol Heffner (E-mail: cheffner@nsf.gov.) so that your name can be added to the building access list.

Minutes: May be obtained from the contact person listed above.

Purpose of Meeting: To provide advice and recommendations to the National Science Foundation (NSF) Director regarding the Foundation's performance as it relates to the Government Performance and Results Act of 1993.

Agenda: Topics include results (outcomes and outputs) of past awards as they relate to indicators associated with the National Science Foundation's PEOPLE, IDEAS and TOOLS outcome goals; the quality, relevance, and balance of NSF award portfolios; and potential future impact of NSF investment portfolios.

June 24, 2003 (Tuesday), 8:30 a.m.-10 a.m.

Welcome and Introduction

Background and Charge for GPRA Assessment

NSF Priority Setting and Investment

June 25, 2003 (Wednesday), 8:30 a.m.-12 (Noon)

Subcommittee Presentations and Discussion

June 26, 2003 (Thursday), 8:30 a.m.-4 p.m.

Subcommittee Presentations and Preparation of Report Draft

Dated: May 27, 2003.
Susanne Bolton,
Committee Management Officer.

[FR Doc. 03-13571 Filed 5-29-03; 8:45 am]

BILLING CODE 7555-01-M